DEPARTMENT OF HEALTH AND HUMAN SERVICES

Health Resources and Services Administration

Cooperative Agreement for the International AIDS Education and Training Center; CFDA 93.145

AGENCY: Health Resources and Services Administration, HHS.

ACTION: Notice of supplemental award.

Intended Recipient of the Award: University of Washington, Seattle, Washington.

Purpose of the Award: This notice announces the program expansion supplement for the cooperative agreement for the International AIDS Education and Training Center at the University of Washington, Seattle, Washington, to expand and augment capacity building under the President's Emergency Plan for AIDS Relief (the President's Emergency Plan). This is the third budget period for this Cooperative Agreement. The purpose of this funding is to support the President's Emergency Plan by strengthening human and organizational capacity through training, technical assistance, infrastructure building, and curriculum development in the 15 focus countries including 12 in Africa, two in the Caribbean and Vietnam (Botswana, Côte d'Ivoire, Ethiopia, Guyana, Haiti, Kenya, Mozambique, Namibia, Nigeria, Rwanda, South Africa, Tanzania, Uganda and Zambia). Further training and technical assistance is also being augmented through the President's Emergency Plan in other countries for which bilateral agreements for similar strategies have been established. The President's Emergency Plan is intended to complement other bilateral and international support efforts, including support through the Global Fund to Fight AIDS, Tuberculosis, and Malaria.

Amount of the Award: $8,877,718.

Project Period: Original Project Period 04/01/02-9/30/05, New Project Period: 04/01/02-2/28/06.

The current budget period is being extended to February 28, 2005 (in line with the intent of the five year strategy of the President's Emergency Plan). This would also extend the project period for the cooperative agreement from September 30, 2005, to February 28, 2006.

Justification for the Exception to Competition: The International AIDS Education and Training Center is the only Health Resources and Services Administration (HRSA), HIV/AIDS Bureau grantee providing valuable capacity building in the area of care and treatment to the focus and bilateral countries through training and other technical assistance. The original intent of this cooperative agreement was to fulfill the gap in training for quality, comprehensive HIV/AIDS care and treatment left by other U.S. Government partners. The President's Emergency Plan is providing the resources to provide the services that are needed in countries hardest hit by the AIDS epidemic. Without this program expansion supplement, HRSA's HIV/AIDS Bureau will be unable to provide this enhanced level of resources and expertise to the targeted countries.

FOR FURTHER INFORMATION CONTACT: Additional information on the International AIDS Education and Training Center may be obtained from Thurma Goldman, MD, MPH, HIV/AIDS Bureau, HRSA, 5600 Fishers Lane, Parklawn Building, Room 7-05, Rockville, Maryland 20857; telephone number (301) 443-1993; fax (301) 443-9645; or e-mail tgoldman@hrsa.gov.

Dated: November 10, 2004.
Elizabeth M. Duke,
Administrator.

[FR Doc. 04-25750 Filed 11-19-04; 8:45 am]

BILLING CODE 4165-15-P